DEPARTMENT OF JUSTICE

Notice of Lodging of Proposed Consent Decree Under the Oil Pollution Act

On August 7, 2014, the Department of Justice lodged a proposed consent decree with the United States District Court for the Middle District of Pennsylvania in a lawsuit entitled United States v. Estate of Michael C. Tranguch and Benito Tranguch, Executor of the Estate of Michael C. Tranguch, Civil Action No. 3:14-cv-01528.

The proposed Consent Decree will resolve claims alleged under the Oil Pollution Act by the United States against the Estate of Michael C. Tranguch and Benito Tranguch, Executor of the Estate of Michael C. Tranguch for recovery of removal costs relating to discharges and substantial threat of discharges of oil from the Tranguch Gasoline Spill Site in Hazleton, Pennsylvania (the “Site”). Under the proposed Consent Decree, the Defendants will sell property at the Site and pay the net proceeds of that sale to the United States. In addition, the Defendants have agreed to certain access requirements and use restrictions at the Site designed to protect the Site remedy, and are required to record an environmental covenant on the Site property that they own so that the access requirements and use restrictions will run with the land in perpetuity. The proposed Consent Decree is based on Defendants' limited ability to pay, as determined by a qualified financial analyst.

The publication of this notice opens a period for public comment on the proposed consent decree. Comments should be addressed to the Assistant Attorney General, Environment and Natural Resources Division, and should refer to United States v. Estate of Michael C. Tranguch and Benito Tranguch, Executor of the Estate of Michael C. Tranguch, D.J. Reference No. 90-5-1-1-10584. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the proposed consent decree may be examined and downloaded at this Justice Department Web site: http://www.justice.gov/enrd/Consent_Decrees.html.

We will provide a paper copy of the proposed consent decree upon written request and payment of reproduction costs. Please mail your request and payment to: Consent Decree Library, U.S. DOJ—ENRD, P.O. Box 7611, Washington, DC 20044-7611.

Please enclose a check or money order for $29.50 (25 cents per page reproduction costs) payable to the United States Treasury. For a paper copy without the exhibits and signature pages, the cost is $9.00.

Robert Brook,
Assistant Section Chief, Environmental Enforcement Section, Environment & Natural Resources Division.

[FR Doc. 2014-19111 Filed 8-12-14; 8:45 am]

BILLING CODE 4410-15-P